DEPARTMENT OF JUSTICE

Drug Enforcement Administration

[Docket No. DEA-733]

Bulk Manufacturer of Controlled Substances Application: Kinetochem LLC

AGENCY: Drug Enforcement Administration, Justice.

ACTION: Notice of application.

SUMMARY: Kinetochem LLC has applied to be registered as a bulk manufacturer of basic class(es) of controlled substance(s). Refer to SUPPLEMENTARY INFORMATION listed below for further drug information.

DATES: Registered bulk manufacturers of the affected basic class(es), and applicants therefore, may file written comments on or objections to the issuance of the proposed registration on or before December 21, 2020. Such persons may also file a written request for a hearing on the application on or before December 21, 2020.

ADDRESSES: Written comments should be sent to: Drug Enforcement Administration, Attention: DEA Federal Register Representative/DPW, 8701 Morrissette Drive, Springfield, Virginia 22152.

SUPPLEMENTARY INFORMATION: In accordance with 21 CFR 1301.33(a), this is notice that on October 5, 2020, Kinetochem LLC, 111 W Cooperative Way, Suite 310-B, Georgetown, Texas 78626, applied to be registered as a bulk manufacturer of the following basic class(es) of controlled substance(s):

Controlled substance | Drug code | Schedule
Marihuana | 7360 | I
Tetrahydrocannabinols | 7370 | I

The company plans to synthetically manufacture drug codes 7360 (Marihuana) and 7370 (Tetrahydrocannabinols), in bulk for distribution and sale to its customers. No other activities for these drugs are authorized for this registration.

William T. McDermott,
Assistant Administrator.

[FR Doc. 2020-23395 Filed 10-21-20; 8:45 am]

BILLING CODE 4410-09-P